DEPARTMENT OF DEFENSE

Office of the Secretary

[Docket ID: DoD-2022-OS-0108]

Submission for OMB Review; Comment Request

AGENCY: Cost Assessment and Program Evaluation (CAPE), Department of Defense (DoD).

ACTION: 30-Day information collection notice.

SUMMARY: The DoD has submitted to the Office of Management and Budget (OMB) for clearance the following proposal for collection of information under the provisions of the Paperwork Reduction Act.

DATES: Consideration will be given to all comments received by August 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Cost and Software Data Report; Forms DD Form 1921, DD Form 1921-1, DD Form 1921-2, DD Form 1921-3, DD Form 1921-5, DD Form 2794; OMB Control Number: 0704-CSDR.

Contractor Work Breakdown Structure

Annual Burden Hours: 30,552.

Number of Respondents: 228.

Responses per Respondent: 4.

Annual Responses: 912.

Average Burden per Response: 33.5 hours.

Cost Data Summary Report DD-1921

Annual Burden Hours: 17,753.1.

Number of Respondents: 228.

Responses per Respondent: 4.4.

Annual Responses: 1,003.

Average Burden per Response: 17.7 hours.

Functional Cost and Hours Report DD-1921-1

Annual Burden Hours: 44,198.

Number of Respondents: 228.

Responses per Respondent: 3.6.

Annual Responses: 820.

Average Burden per Response: 53.9 hours.

Progress Curve Report DD-1921-2

Annual Burden Hours: 56,088.

Number of Respondents: 228.

Responses per Respondent: 1.

Annual Responses: 228.

Average Burden per Response: 246 hours.

Contractor Business Data Report DD-1921-3

Annual Burden Hours: 16,330.

Number of Respondents: 115.

Responses per Respondent: 1.

Annual Responses: 115.

Average Burden per Response: 142 hours.

Sustainment Functional Cost-Hour Report DD-1921-5

Annual Burden Hours: 5,676.

Number of Respondents: 40.

Responses per Respondent: 2.2.

Annual Responses: 88.

Average Burden per Response: 64.5 hours.

Cost and Software Data Reporting DD-2794

Annual Burden Hours: 23,712.

Number of Respondents: 228.

Responses per Respondent: 1.

Annual Responses: 228.

Average Burden per Response: 104 hours.

Total Burden

Annual Burden Hours: 194,309.

Annual Responses: 3,394.

Needs and Uses: CAPE is statutorily required by Title 10, United Stated Code in Section 2334(g), to “develop policies, procedures, guidance and a collection method to ensure that quality acquisition cost data are collected to facilitate cost estimation and comparison across acquisition programs.” Section 2334(g) also contains a 100-million-dollar threshold statutory requirement for providing cost data from each acquisition program that exceeds this amount.

Affected Public: Businesses or other for-profit; Not-for-profit Institutions.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: July 19, 2023.
Aaron T. Siegel,
Alternate OSD Federal Register Liaison Officer, Department of Defense.

[FR Doc. 2023-15807 Filed 7-25-23; 8:45 am]

BILLING CODE 5001-06-P